DEPARTMENT OF ENERGY

Federal Energy Regulatory Commission

[Project No. 2355-011]

Exelon Generation Company, LLC; Notice of Dispute Resolution Panel Convening and Technical Conference

March 16, 2010.

On March 15, 2010, Commission staff, in response to the filing of notices of study dispute by the U.S. Department of Interior (Fish and Wildlife Service) and Pennsylvania Department of Environmental Protection on February 24, 2010, convened a single three-person Dispute Resolution Panel pursuant to 18 CFR 5.14(d).

The Panel will hold a technical conference at the time and place noted below. The session will address study disputes regarding a study that would focus on entrainment and impingement study (study 3.3 in the revised study plan.) The focus of the technical session is for the disputing agencies, applicants, and Commission to provide the Panel with additional information necessary to evaluate the disputed study. All local, state, and federal agencies, Indian tribes, and other interested parties are invited to attend the meeting as observers. The Panel may also request information or clarification on written submissions as necessary to understand the matters in dispute. The Panel will limit all input that it receives to the specific study or information in dispute and will focus on the applicability of such a study or information to the study criteria stipulated in 18 CFR 5.9(b). If the number of participants wishing to speak creates time constraints, the Panel may, at their discretion, limit the speaking time for each participant.

Technical Conference

Date: Wednesday, March 31, 2010

Time: 9 a.m.-5 p.m. (EDT)

Place: Muddy Run Visitor Center at 172 Bethesda Church Road West, Holtwood, Pennsylvania

Phone: Dave Byers, 717-284-5863

Kimberly D. Bose,
Secretary.

[FR Doc. 2010-6231 Filed 3-19-10; 8:45 am]

BILLING CODE 6717-01-P